DEPARTMENT OF THE INTERIOR

Fish and Wildlife Service

Notice of Intent To Conduct Public Scoping and Prepare an Environmental Impact Statement Regarding the Coyote Springs Investments Multiple Species Habitat Conservation Plan, Lincoln County, NV

AGENCY: Fish and Wildlife Service, Interior.

ACTION: Notice of intent.

SUMMARY: Pursuant to the National Environmental Policy Act (NEPA) (42 U.S.C. 4321, et seq.), the Fish and Wildlife Service (Service) as the lead agency, advises the public that we intend to gather information necessary to prepare an Environmental Impact Statement (EIS) regarding the proposed Coyote Springs Investment LLC (Applicant) Multiple Species Habitat Conservation Plan (MSHCP) and issuance of an incidental take permit (Permit) for endangered and threatened species in accordance with section 10(a)(1)(B) of the Endangered Species Act of 1973, as amended (Act). The Applicant proposes to develop a planned community in southern Lincoln County and implement conservation features (Project). The Applicant intends to request a Permit for incidental take of federally listed threatened or endangered species, including desert tortoise (gopherus agassizii) as well as Evaluation List species. Evaluation List species include species that have been petitioned for listing; State-listed species; species that have been nominated for inclusion by technical specialists; and other species of concern that co-occur with federally listed species. The Service plans to refine the species list as a part of the scoping process. In accordance with the Act, the Applicant will prepare a MSHCP containing proposed measures to minimize and mitigate incidental take that could result from the Project.

The Service provides this notice to: (1) Describe the proposed action and possible alternatives; (2) advise other Federal and State agencies, affected tribes, and the public of our intent to prepare an EIS; (3) announce the initiation of a 30-day public scoping period; and (4) obtain suggestions and information on the scope of issues to be included in the EIS. The proposed action is approval of the MSHCP and issuance of the Permit.

DATES: Public scoping meetings will be held:

1. September 26, 2006, 4 p.m. to 7 p.m., Lincoln County Alamo Annex, 100 S First W Street, Alamo, Nevada 89001, 775-725-3356.

2. September 27, 2006, 4 p.m. to 7 p.m., Moapa Recreation Center, 1340 E Highway 168, Moapa, Nevada 89025, 702-864-2423.

Written comments from all interested parties must be received on or before October 12, 2006.

ADDRESSES: Comments and requests for information related to the preparation of the EIS should be sent to Robert D. Williams, Field Supervisor, U.S. Fish and Wildlife Service, 1340 Financial Boulevard, Suite 234, Reno, Nevada 89502; or fax 775-861-6301. Comments may be submitted electronically to fw8leocomments@fws.gov. Comments and materials received will be available for public inspection, by appointment, during normal business hours at the above address.

FOR FURTHER INFORMATION CONTACT: Jeannie Stafford, at 775-861-6300.

SUPPLEMENTARY INFORMATION: Persons needing reasonable accommodations in order to attend and participate in the public meeting should contact Jeannie Stafford (See ADDRESSES) at 775-861-6300 as soon as possible. In order to allow sufficient time to process requests, please call no later than one week before the public meeting. Information regarding this proposed action is available in alternative formats upon request.

A Notice of Intent to prepare an EIS was published in the Federal Register for this project on December 4, 2001 (Federal Register Volume 66, No. 233, pages 63065 to 63066). This second notice is being published because the amount of land included in the MSHCP has been modified. The MSHCP described in the 2001 NOI included privately-owned, developable lands, and leased land in Lincoln County and Clark County, Nevada. The MSHCP described in this NOI includes private, developable lands in Lincoln County only, as well as leased lands in both Lincoln and Clark Counties.

The Applicant has initiated discussions with the Service regarding preparation of an MSHCP and issuance of a Permit for their activities, which include residential and commercial development, construction, and maintenance. The Applicant has also initiated discussions with the Bureau of Land Management (BLM) regarding land leases, and with the U.S. Army Corps of Engineers regarding project wetland permitting. Land leased and owned by the Applicant occupies most of the eastern portion of Coyote Springs Valley straddling the Pahranagat Wash and the Kane Springs Wash in Lincoln County. It consists of approximately 13,800 acres of land leased from the BLM in Lincoln and Clark Counties, and approximately 22,140 acres of developable private land in Lincoln County. The area is bordered by the Delamar Mountains to the north, the Meadow Valley Mountains to the east, and U.S. 93 to the west. The development area extends approximately 9 miles (14.48 kilometers) north of the Lincoln County/Clark County line. Leased land is bordered by SR 168 to the south in Clark County. Accordingly, BLM will be a cooperating agency for the environmental review. These lands are located in portions of Townships 11, 12, and 13 South and Ranges 63 and 64 East. The surrounding land is primarily owned and managed by the BLM and the Service. South of the development area, the Applicant's lands are being developed in Clark County and are not covered under this MSHCP.

Some of the Applicant's future activities have the potential to impact species subject to protection under the Act. Section 9 of the Act (16 U.S.C. 1538) and Federal regulations prohibit the “take” of a fish or wildlife species listed as endangered or threatened. Under the Act, the following activities are defined as take: To harass, harm, pursue, hunt, shoot, wound, kill, trap, capture or collect listed animal species, or to attempt to engage in such conduct (16 U.S.C. 1532). However, under section 10(a) of the Act, we may issue permits to authorize “incidental take” of listed species. “Incidental take” is defined by the ESA as take that is incidental to, and not the purpose of, carrying out an otherwise lawful activity. Regulations governing permits for threatened species and endangered species are at 50 CFR 17.32 and 50 CFR 17.22, respectively. An applicant for a Permit under section 10 must prepare and submit to the Service for approval a Plan containing a multifaceted strategy for minimizing and mitigating all take associated with the proposed activities to the maximum extent practicable. The applicant must also ensure that adequate funding for the Plan will be provided.

The Service will conduct an environmental review of the MSHCP and prepare an EIS. The Applicant has selected ENTRIX as the lead consultant to prepare the EIS under the supervision of the Service, which will be responsible for the scope and content of the NEPA document. NEPA requires that Federal agencies conduct an environmental analysis of their proposed actions to determine if the actions may significantly affect the human environment. Under NEPA, a reasonable range of alternatives to proposed projects is developed and considered in the environmental review. Alternatives considered for analysis in an EIS may include: Variations in the scope of proposed activities; variations in the location, amount, and types of conservation measures; variations in activity duration; or, a combination of these elements. In addition, the EIS will identify potentially significant direct, indirect, and cumulative impacts on biological resources, land use, air quality, water quality, water resources, socioeconomic conditions, and other environmental issues that could occur with implementation of the proposed action and alternatives. For all potentially significant impacts, the EIS identifies avoidance, minimization, and mitigation measures to reduce these impacts, where feasible, to a level below significance.

The EIS will consider the proposed action, no action, and a reasonable range of alternatives. A detailed description of the impacts of the proposed action and each alternative will be included in the EIS. The alternatives to be considered for analysis in the EIS may address combinations of covered species, different permit effective periods, or a combination of elements.

Written comments from interested parties are welcome to ensure that the issues of public concern related to the proposed action are identified. Comments and materials received will be available for public inspection, by appointment, during normal business hours at the office listed in the ADDRESSES section of this notice. All comments and materials received, including names and addresses, will become part of the administrative record and may be released to the public. Public meetings will be held as noted in the DATES section above.

The Service requests that comments be specific. In particular, the Service is requesting information regarding (1) potential direct, indirect, and cumulative impacts of implementation of the proposed action; (2) other possible alternatives that meet the purpose and need; (3) potential adaptive management and/or monitoring provisions; (4) existing environmental conditions in the area; (5) other plans or projects that might be relevant to this proposed project; and (6) potential minimization and mitigation efforts.

The environmental review of this project will be conducted in accordance with the requirements of the NEPA of 1969 as amended (42 U.S.C. 4321 et seq.), Council on the Environmental Quality Regulations (40 CFR parts 1500-1518), other applicable Federal laws and regulations, and applicable policies and procedures of the Service. This notice is being furnished in accordance with 40 CFR 1501.7 to obtain suggestions and information from other agencies and the public on the scope of issues and alternatives to be addressed in the EIS. It is estimated that the draft EIS will be available for public review during the first quarter of 2007.

Dated: September 5, 2006.
Ken McDermond,
Deputy Manager, California/Nevada Operations Office, Sacramento, California.

[FR Doc. E6-15050 Filed 9-11-06; 8:45 am]

BILLING CODE 4310-55-P